DEPARTMENT OF HOUSING AND URBAN DEVELOPMENT

[Docket No. FR-7029-N-07]

60-Day Notice of Proposed Information Collection: 2021 American Housing Survey

AGENCY: Office of the Assistant Secretary for Policy Development and Research, Housing and Urban Development (HUD).

ACTION: Notice.

SUMMARY: The U.S. Department of Housing and Urban Development (HUD) is seeking approval from the Office of Management and Budget (OMB) for the information collection described below. In accordance with the Paperwork Reduction Act, HUD is requesting comment from all interested parties on the proposed collection of information. The purpose of this notice is to allow for 60 days of public comment.

DATES: Comments Due Date: October 6, 2020.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

A. Overview of Information Collection

Title of Information Collection: 2021 American Housing Survey.

OMB Approval Number: 2528-0017.

Type of Request: Revision of a currently approved collection.

Form Number: None.

Description of the need for the information and proposed use: The purpose of the American Housing Survey (AHS) is to supply the public with detailed and timely information about housing quality, housing costs, and neighborhood assets, in support of effective housing policy, programs, and markets. Title 12, United States Code, Sections 1701Z-1, 1701Z-2(g), and 1710Z-10a mandates the collection of this information.

Like the previous surveys, the 2021 AHS will collect “core” data on subjects, such as the amount and types of changes in the housing inventory, the physical condition of the housing inventory, the characteristics of the occupants, housing costs for owners and renters, including a redesigned mortgage section, the persons eligible for and beneficiaries of assisted housing, remodeling and repair frequency, reasons for moving, the number and characteristics of vacancies, and characteristics of resident's neighborhood. In addition to the “core” data, HUD plans to collect supplemental data on potential health and safety hazards in the home, the renter housing search process, housing characteristics that increase wildfire risk, household pets, and delinquent payments and notices for mortgage, rent, or utility bills.

The AHS national longitudinal sample consists of approximately 90,600 housing units, and includes oversample from the largest 15 metropolitan areas, approximately 5,200 HUD-assisted housing units, and approximately 3,000 units subsidized in the Low-Income Housing Tax Credit program. In addition to the national longitudinal sample, HUD plans to conduct 10 additional metropolitan area longitudinal samples, each with approximately 3,000 housing units (for a total 30,000 metropolitan area housing units). The 10 additional metropolitan area longitudinal samples were last surveyed in 2017.

To help reduce respondent burden on households in the longitudinal sample, the 2021 AHS will make use of dependent interviewing techniques, which will decrease the number of questions asked. Policy analysts, program managers, budget analysts, and Congressional staff use AHS data to advise executive and legislative branches about housing conditions and the suitability of public policy initiatives. Academic researchers and private organizations also use AHS data in efforts of specific interest and concern to their respective communities.

The Department of Housing and Urban Development (HUD) needs the AHS data for the following two reasons:

1. With the data, policy analysts can monitor the interaction among housing needs, demand and supply, as well as changes in housing conditions and costs, to aid in the development of housing policies and the design of housing programs appropriate for different target groups, such as first-time home buyers and the elderly.

2. With the data, HUD can evaluate, monitor, and design HUD programs to improve efficiency and effectiveness.

Members of affected public: Households.

Estimated number of respondents: 129,000.

Estimated time per response: 27.7 minutes.

Frequency of response: One time every two years.

Estimated total annual burden hours: 59,500.

Estimated total annual cost: The only cost to respondents is that of their time. The total estimated cost is $66,800,000.

Respondent's obligation: Voluntary.

Legal authority: This survey is conducted under Title 12, U.S.C., Section 1701z-1 et seq.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses. HUD encourages interested parties to submit comment in response to these questions.

C. Authority

Section 3507 of the Paperwork Reduction Act of 1995, 44 U.S.C. Chapter 35.

The Assistant Secretary for Policy Development and Research, Seth Appleton, having reviewed and approved this document, is delegating the authority to electronically sign this document to submitter, Nacheshia Foxx, who is the Federal Register Liaison for HUD, for purposes of publication in the Federal Register.

Dated: August 4, 2020.
Nacheshia Foxx,
Federal Register Liaison for the Department of Housing and Urban Development.

[FR Doc. 2020-17314 Filed 8-6-20; 8:45 am]

BILLING CODE 4210-67-P